DEPARTMENT OF THE INTERIOR

Bureau of Indian Affairs

[DR.5B711.IA000813]

Indian Gaming

AGENCY: Bureau of Indian Affairs, Interior.

ACTION: Notice of approved Tribal-State Class III Gaming Compact.

SUMMARY: This notice publishes the approval of the Class III Tribal-State Gaming Compact between the Wiyot Tribe and the State of California.

DATES: Effective Date: September 6, 2013.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2701 et seq., the Secretary of the Interior shall publish in the Federal Register notice of approved Tribal-State compacts for the purpose of engaging in Class III gaming activities on Indian lands. The Compact between the State of California and the Wiyot Tribe provides for certain payments to the Tribe from the Wiyot Trust Fund established by the State under this Compact and the compact between the State of California-North Fork Rancheria of Mono Indians. In exchange for these payments, the Tribe agrees to forgo operation of Class III gaming on its lands. Pursuant to 25 CFR 293.4, all compacts are subject to review and approval by the Secretary. Pursuant to 25 CFR 293.15, an approved compact takes effect on the date that notice of its approval is published in the Federal Register. The compact terminates on December 31, 2033.

Dated: August 30, 2013.
Kevin K. Washburn,
Assistant Secretary—Indian Affairs.

[FR Doc. 2013-21739 Filed 9-5-13; 8:45 am]

BILLING CODE 4310-4N-P